DEPARTMENT OF ENERGY

Federal Energy Regulatory Commission

[Project No. 2142-031-Maine]

FPL Energy Maine Hydro, LLC; Notice of Availability of Environmental Assessment

March 21, 2003.

In accordance with the National Environmental Policy Act of 1969 and the Federal Energy Regulatory Commission (Commission) regulations, 18 CFR part 380 (Order No. 486, 52 FR 47897), the Office of Energy Projects has reviewed the application for a new major license for the Indian Pond Hydroelectric Project (P-2142-031), located on the Kennebec River in Somerset and Piscataquis counties, Maine, and has prepared an environmental assessment (EA) for the project. The EA contains the staff's analysis of the potential environmental impacts of the project and concludes that licensing the project, with appropriate environmental protective measures, would not constitute a major federal action that would significantly affect the quality of the human environment.

A copy of the EA is available for public inspection in the Public Reference Room of the Commission's offices at 888 First Street, NE., Washington, DC 20426. The EA may also be viewed on the Internet at http://www.ferc.gov using the “FERRIS” link—select “Docket #” and follow the instructions. For assistance, please contact FERC online support at FERCOnlineSupport@ferc.gov or call toll-free 866-208-3676 or (202) 502-8659 (for TTY).

Any comments should be filed within 30 days from the date of this notice and should be addressed to Magalie R. Salas, Secretary, Federal Energy Regulatory Commission, 888 First Street, NE., Washington, DC 20426. Please affix “Indian Pond Project No. 2142-031” to all comments.

Comments may also be filed electronically via the Internet in lieu of paper. See 18 CFR 385.2001(a)(1)(iii) and the instructions on the Commission's Web site under the “e-Filing” link. The Commission strongly encourages electronic filings.

For further information, contact John Costello at (202) 502-6119.

Magalie R. Salas,
Secretary.

[FR Doc. 03-7418 Filed 3-27-03; 8:45 am]

BILLING CODE 6717-01-P